DEPARTMENT OF COMMERCE

National Oceanic and Atmospheric Administration

RIN 0648-XG265

Endangered and Threatened Species; Take of Anadromous Fish

AGENCY: National Marine Fisheries Service (NMFS), National Oceanic and Atmospheric Administration (NOAA), Commerce.

ACTION: NOAA Fisheries is notifying the public of the receipt of two applications for Endangered Species Act section 10(a)(1)(A) enhancement permits for hatchery programs rearing fall Chinook salmon in the Snake River basin.

SUMMARY: Notice is hereby given that NMFS has received applications for renewal of two enhancement permit applications pursuant to the Endangered Species Act (ESA) section for hatchery operations rearing and releasing Snake River fall Chinook salmon in the Snake River basin of Idaho. The applications are in the form of two existing hatchery and genetic management plans (HGMPs) and an addendum. This new addendum and the associated HGMPs describe programs operated by the Nez Perce Tribe (NPT), Washington Department of Fish and Wildlife (WDFW), Oregon Department of Fish and Wildlife (ODFW), and Idaho Department of Fish and Game (IDFG), and funded by the United States Fish and Wildlife Service (USFWS) through the Lower Snake Compensation Plan (LSRCP), Idaho Power Company (IPC), and the Bonneville Power Administration (BPA). This document serves to notify the public of the availability of these materials for review and comment prior to a decision by NMFS as to whether to issue the permit.

DATES: Comments must be received at the appropriate address (see ADDRESSES) no later than 5:00 p.m. Pacific time on July 5, 2018.

ADDRESSES: Written responses to the addendum should be addressed to the NMFS Sustainable Fisheries Division, 1201 NE Lloyd Blvd., Portland, OR 97232. Comments may be submitted by email. The mailbox address for providing email comments is: SnakeFallChinookHatcheries.wcr@noaa.gov. Include in the subject line of the email comment the following identifier: Comments on Snake River fall Chinook hatchery permits.

FOR FURTHER INFORMATION CONTACT: Natasha Preston at (503) 231-2178 or by email at natasha.preston@noaa.gov.

SUPPLEMENTARY INFORMATION:

ESA-Listed Species Covered in This Notice

Chinook salmon (Oncorhynchus tshawytscha): Threatened, naturally and artificially propagated Snake River fall-run.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

The co-managers and funding agencies, including the NPT, WDFW, ODFW, IDFG, LSRCP, IPC, and BPA, have submitted to NMFS applications for two permits, pursuant to section 10(a)(1)(A) of the Endangered Species Act, for hatchery activities in the Snake River basin. The applications are in the form of two existing HGMPs and an addendum with updates to those HGMPs.

The addendum and previously submitted HGMPs describe actions involving hatchery activities (with associated monitoring and evaluation) in the Snake River basin. The programs are intended to contribute to the survival and recovery of Snake River Fall Chinook salmon in the Snake River basin, and to responsibly enhance fishing opportunity on hatchery-origin returns.

Authority

This notice is provided pursuant to section 10(c) of the ESA. NMFS will evaluate each application, associated documents, and comments submitted thereon to determine whether the applications meet the requirements of section 10(a)(1)(A) of the ESA. If it is determined that the requirements are met, permits will be issued to the NPT, WDFW, ODFW, IDFG, LSRCP, IPC, and BPA for the purpose of carrying out the hatchery programs. NMFS will publish a record of its final action in the Federal Register.

Dated: May 30, 2018.
Angela Somma,
Chief, Endangered Species Division, Office of Protected Resources, National Marine Fisheries Service.

[FR Doc. 2018-11934 Filed 6-1-18; 8:45 am]

BILLING CODE 3510-22-P